DEPARTMENT OF AGRICULTURE

National Institute of Food and Agriculture

7 CFR Part 3407

Revision of Delegations of Authority

CFR Correction

In Title 7 of the Code of Federal Regulations, Part 2000 to End, revised as of January 1, 2014, on page 442, in § 3407.4, in paragraph (a), add a heading to read “Director”, and in the first sentence, add the word “Director” between “The” and “is”.

[FR Doc. 2014-30467 Filed 12-24-14; 8:45 am]

BILLING CODE 1505-01-D